COUNCIL ON ENVIRONMENTAL QUALITY

Notice To Extend the Comment Period for the Revised Draft Guidance for Federal Departments and Agencies on Consideration of Greenhouse Gas Emissions and the Effects of Climate Change in NEPA Reviews

AGENCY: Council on Environmental Quality.

ACTION: Notice of Extension of Comment Period.

SUMMARY: This notice extends the comment period for the proposed guidance published in the Federal Register on December 24, 2014, (79 FR 77802, Dec. 24, 2014). The comment period for the proposed guidance, which would have ended on February 23, 2015, is extended for 30 days.

DATES: The comment period is extended to 11:00 p.m. Eastern Standard Time on March 25, 2015.

ADDRESSES: The revised Draft Guidance is available at http://www.whitehouse.gov/administration/eop/ceq/initiatives/nepa. Comments on the “Revised Draft Guidance for Federal Departments and Agencies on Consideration of Greenhouse Gas Emissions and the Effects of Climate Change in NEPA Reviews” should be submitted in one of the following ways:

a. Electronically at http://www.whitehouse.gov/webform/submit-comments-revised-draft-guidance-greenhouse-gas-emissions-and-climate-change-impacts;

b. By email to GCC.guidance@ceq.eop.gov; or

c. By regular mail to the Council on Environmental Quality, ATTN: Horst Greczmiel, 722 Jackson Place NW., Washington, DC 20503.

FOR FURTHER INFORMATION CONTACT: Horst Greczmiel, Associate Director for National Environmental Policy Act Oversight, at (202) 395-5750.

SUPPLEMENTARY INFORMATION: On December 24, 2014, the Council on Environmental Quality (CEQ) published revised draft guidance in the Federal Register (79 FR 77802, Dec. 24, 2014) with comments due on or before February 23, 2015. The revised draft guidance discusses how National Environmental Policy Act (NEPA), 42 U.S.C. 4321-4370, analysis and documentation should address greenhouse gas (GHG) emissions and the impacts of climate change.

CEQ has received inquiries from state-based and national industry organizations regarding the 60-day time period to submit comments. The organizations stated that they needed additional time to respond to the rule due to the complex nature of the proposed revisions. Because of the scope of the proposed guidance, and because CEQ has specifically requested the public's comments on various aspects of the guidance in an attempt to benefit from the experiences of all interested parties, CEQ has decided to extend the comment period for an additional 30 days. This notice announces the extension of the public comment period to March 25, 2015.

CEQ posts all comments received electronically on a weekly basis at http://www.whitehouse.gov/administration/eop/ceq/initiatives/nepa/comments. Follow the search instructions on that Web site to view public comments.

Dated: February 18, 2015.
Brenda Mallory,
General Counsel, Council on Environmental Quality.

[FR Doc. 2015-03606 Filed 2-20-15; 8:45 am]

BILLING CODE 3225-F5-P